SECURITIES AND EXCHANGE COMMISSION

Sunshine Act Meetings

Notice is hereby given, pursuant to the provisions of the Government in the Sunshine Act, Public Law 94-409, that the Securities and Exchange Commission (“SEC”) and the Commodity Futures Trading Commission (“CFTC”) will hold a public roundtable to discuss the schedule for implementing final rules for swaps and security-based swaps under the Dodd-Frank Wall Street Reform and Consumer Protection Act on Monday, May 2, 2011 and Tuesday, May 3, 2011 at the CFTC's headquarters at Three Lafayette Centre, Conference Centre, 1155 21st Street, NW., Washington, DC 20581.

Both meetings will being open to the public, with seating on a first-come, first-served basis. Visitors will be subject to security checks.

This Sunshine Act notice is being issued because a majority of the Commission may attend the meetings.

The roundtable is expected to include panel discussions of (1) compliance dates for new rules for existing trading platforms and clearinghouses and the registration and compliance with rules for new platforms, such as swap and security-based swap execution facilities, and data repositories for swaps and security-based swaps; (2) compliance dates for new requirements for dealers and major participants in swaps and security-based swaps; (3) implementation of clearing mandates; (4) compliance dates for financial entities such as hedge funds, asset managers, insurance companies and pension funds subject to a clearing mandate and other requirements; and (5) considerations with regard to non-financial end users.

For further information, please contact the CFTC's Office of Public Affairs at (202) 418-5080 or the SEC's office of Public Affairs at (202) 551-4120.

Dated: April 20, 2011.
Elizabeth M. Murphy,
Secretary.

[FR Doc. 2011-9991 Filed 4-21-11; 11:15 am]

BILLING CODE 8011-01-P